DEPARTMENT OF TRANSPORTATION

Federal Aviation Administration

14 CFR Part 39

[Docket No. FAA-2011-1087; Directorate Identifier 2011-NM-032-AD; Amendment 39-16967; AD 2012-04-11]

RIN 2120-AA64

Airworthiness Directives; Airbus Airplanes

Correction

In rule document 2012-5859 appearing on pages 14679-14681 in the issue of March 13, 2012, make the following correction:

§ 39.13 [Corrected]

On page 14680, in § 39.13, in the third column, the table is corrected to read as set forth below:

Table 1—List of FWC Part Numbers Affected by This AD
FWC Part Number
350E017238484 (H1D1)
350E016187171 (C5)
350E017248685 (H1D2)
350E017251414 (H1E1)
350E017271616 (H1E2)
350E018291818 (H1E3CJ)
350E018301919 (H1E3P)
350E018312020 (H1E3Q)
350E053020202 (H2E2)
350E053020303 (H2E3)
350E053020404 (H2E4)
350E053020606 (H2F2)
350E053020707 (H2F3)
350E053021010 (H2F3P)
350E053020808 (H2F4)

[FR Doc. C1-2012-5859 Filed 3-23-12; 8:45 am]

BILLING CODE 1505-01-D